FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 14, 2017.

A. Federal Reserve Bank of Chicago (Colette A. Fried, Assistant Vice President) 230 South LaSalle Street, Chicago, Illinois 60690-1414:

1. James C. Volkert, individually and as trustee of the James C. Volkert Revocable Living Trust, the James C. Volkert Revocable Living Trust, Susan A. Volkert, Jacquelyn Volkert, and Michael Volkert, all of Montgomery, Illinois; as a group acting in concert to retain voting shares of Montgomery Bancshares, Inc., and thereby indirectly retain voting shares of Bank of Montgomery, both in Montgomery, Illinois.

B. Federal Reserve Bank of Kansas City (Dennis Denney, Assistant Vice President) 1 Memorial Drive, Kansas City, Missouri 64198-0001:

1. Jeff Schumacher, Lincoln, Nebraska; to acquire voting shares of North Central Bancorp, Inc., and thereby indirectly acquire BankFirst, both in Norfolk, Nebraska.

Board of Governors of the Federal Reserve System, August 25, 2017.
Yao-Chin Chao,
Assistant Secretary of the Board.

[FR Doc. 2017-18445 Filed 8-30-17; 8:45 am]

BILLING CODE 6210-01-P